DEPARTMENT OF THE INTERIOR

Fish and Wildlife Service

Receipt of 48 Applications and Availability of Environmental Assessment for Incidental Take Permits for Single-Family and Duplex Residential Developments on the Fort Morgan Peninsula, Baldwin County, AL

AGENCY: Fish and Wildlife Service, Interior.

ACTION: Notice.

SUMMARY: We, the Fish and Wildlife Service, have received applications from Alabama South Pools, Ms. Debbie Bankster, Baron Investments, Mr. Horton Bateman, BIOA LLC, Mr. Christopher Celeslie, Mr. Claud Clark, Mr. Robin Crick, Mr. Lawrence Dalgo, Mr. Erik Daniels, Mr. William Erwin, Mr. Mark Freeman, Mr. Mike Halliday, Mr. Leo Hastings, Harrison Building, Mr. Walter Lindsey, Mr. William Lingsch, Mr. Brian Litton, LK&K LLC, Mr. Michael Llop, Mr. Danny Mason, Mr. Lannie McRill, Mr. Michael Molleston, Mr. Johnny Moore, Ms. Margaret Pickering, Mr. Robert Relinski, Mr. Michael Sciortino Sr., Mr. Preston Simmons, Mr. Claude Sims, Mr. Gary Smith, Mr. Ron Spivey, Mr. Mike Stoddard, Mr. Larkin Strong, Mr. Robert Susko, TBI LLC, Mr. John Wales, and Mr. Kenneth Wallis (applicants) for incidental take permits (ITPs) pursuant to section 10(a)(1)(B) of the Endangered Species Act of 1973 (16 U.S.C. 1531 et seq.) (Act), as amended for the take of Alabama beach mouse (Peromyscus polionotus ammobates) (ABM). The proposed take would be incidental to the otherwise lawful activity of constructing 32 single-family residences, 13 duplex residences, and expansion of 3 existing residences on the Fort Morgan Peninsula in Baldwin County, Alabama. The applicants have prepared Habitat Conservation Plans (HCPs) specifying, among other things, the impacts that are likely to result from the taking and the measures each applicant would undertake to minimize and mitigate such impacts. We have prepared an environmental assessment (EA), which assesses the impacts of the proposed actions.

DATES: Written comments on the ITP applications, HCPs, and EA should be sent to the Service's Regional Office (see ADDRESSES) and should be received on or before September 25, 2006.

ADDRESSES: Persons wishing to review the applications, HCPs, and EA may obtain an electronic copy by writing the Service's Southeast Regional Office, Atlanta, Georgia, at the address below. Documents will also be available for public inspection by appointment during normal business hours at the Regional Office, 1875 Century Boulevard, Suite 200, Atlanta, Georgia 30345 (Attn: Endangered Species Permits), or the Daphne Ecological Services Field Office, 1208-B Main Street, Daphne, Alabama 36526. Written data or comments concerning the application or HCP should be submitted to the Regional Office. Please reference “Batch III” in requests for the documents discussed herein.

FOR FURTHER INFORMATION CONTACT: Mr. Aaron Valenta, Regional HCP Coordinator (see ADDRESSES), telephone: 404/679-4144, or Mr. Darren LeBlanc, Fish and Wildlife Service Biologist, Daphne Field Office (see ADDRESSES), telephone: 251/441-5859.

SUPPLEMENTARY INFORMATION: The EA is a combined assessment addressing the environmental impacts associated with these projects both individually and cumulatively. This notice advises the public that we have opened the comment period on the ITP applications and the EA. This notice is provided pursuant to section 10 of the Act and National Environmental Policy Act regulations at 40 CFR 1506.6.

We specifically request information, views, and opinions from the public on the Federal action, including the identification of any other aspects of the human environment not already identified in our EA. Further, we specifically solicit information regarding the adequacy of the HCPs as measured against our ITP issuance criteria found in 50 CFR parts 13.21 and 17.22.

If you wish to comment, you may submit comments by any one of several methods. Please reference “Batch III” in such comments. You may mail comments to our Regional Office (see ADDRESSES). You may also e-mail comments to aaron_valenta@fws.gov. Please also include your name and return mailing address in your e-mail message. If you do not receive a confirmation from us that we have received your e-mail, contact us directly at either telephone number listed (see FOR FURTHER INFORMATION CONTACT).

Finally, you may hand-deliver comments to either Service office listed (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

The EA considers the direct, indirect, and cumulative effects of the proposed incidental take of the ABM and the measures that will be implemented to minimize and mitigate such impacts. The EA contains an analysis of three alternatives for each site, including: (1) No action alternative; (2) development with wholesale clearing, grading, and formal landscaping; and (3) the applicant's preferred alternative. Under alternative 1, we would not issue the ITPs and no new construction would result. Alternative 2 would result in the construction of single-family and duplex residences and the loss of 15.69 acres of ABM habitat. Alternative 3 would result in a loss of 4.59 acres, consisting of the footprint of the residences and access driveways. Access roads through State and County rights-of-way would result in the loss of an additional 0.46 acre of habitat for both Alternatives 2 and 3. Project effects are considered in the EA in terms of the affected environment, environmental consequences, and cumulative effects to the human and natural environment.

The ABM is one of eight subspecies of the old field mouse restricted to coastal habitats. It was listed as endangered in 1985 and is currently believed to occupy approximately 2,544 acres in Baldwin County, Alabama. The three species of sea turtle are found along the Gulf coast: The threatened green turtle (Chelonia mydas), the threatened loggerhead (Caretta caretta) and the endangered Kemp's ridley (Lepidochelys kempii). Implementation of the minimization and conservation measures proposed in the applicants' HCPs to minimize incidental take of the ABM will also benefit nesting sea turtles.

Under section 9 of the Act and its implementing regulations, “taking” of endangered or threatened wildlife is prohibited. However, we, under limited circumstances, may issue permits to take such wildlife if the taking is incidental to and not the purpose of otherwise lawful activities. The applicants have prepared HCPs that include measures for the long-term protection, management, and enhancement of ABM habitat as required for the ITP application as part of the proposed project.

We will evaluate the HCPs and comments submitted to determine whether the applications meet the requirements of section 10(a) of the Act. We will also evaluate whether the proposed issuance of the section 10(a)(1)(B) ITPs complies with section 7 of the Act by conducting an intra-Service section 7 consultation. The results of the biological opinion, in combination with the above findings, will be used in the final analysis to determine whether or not to issue the ITPs.

Dated: August 8, 2006.
Cynthia K. Dohner,
Acting Regional Director, Southeast Region.

[FR Doc. E6-14029 Filed 8-23-06; 8:45 am]

BILLING CODE 4310-55-P